DEPARTMENT OF STATE

[Public Notice: 12813]

Foreign Terrorist Organization Designation of Los Choneros and Los Lobos

Based upon a review of the Administrative Records assembled in this matter, and in consultation with the Attorney General and the Secretary of the Treasury, I have concluded that there is a sufficient factual basis to find that the relevant circumstances described in section 219 of the Immigration and Nationality Act, as amended (hereinafter “INA”) (8 U.S.C. 1189), exist with respect to: Los Choneros (also known as The Choneros, Aguilas, Fatales); and Los Lobos (also known as The Lobos, Los Lobos Drug Trafficking Organization).

Therefore, I hereby designate the aforementioned organizations and their respective aliases as Foreign Terrorist Organizations pursuant to section 219 of the INA.

This determination shall be published in the Federal Register. The designations go into effect upon publication.

Dated: August 6, 2025.
Marco Rubio,
Secretary of State.

[FR Doc. 2025-17067 Filed 9-4-25; 8:45 am]

BILLING CODE 4710-AD-P